EXPORT-IMPORT BANK

Sunshine Act Meeting

Notice of a Partially Open Meeting of the Board of Directors of the Export-Import Bank of the United States.

TIME AND DATE: Thursday, February 20, 2020 at 9:30 a.m.

PLACE: The meeting will be held at Ex-Im Bank in Room 1125, 811 Vermont Avenue NW, Washington, DC 20571.

STATUS: The meeting will be open to public observation for Item No. 1 only.

MATTERS TO BE CONSIDERED: Item No. 1 Small Business Update.

CONTACT PERSON FOR MORE INFORMATION: Members of the public who wish to attend the meeting should call Joyce Stone, Office of the General Counsel, 811 Vermont Avenue NW, Washington, DC 20571 (202) 565-3336 by close of business Monday, February 17, 2020.

Joyce Brotemarkle Stone,
Assistant Corporate Secretary.

[FR Doc. 2020-02464 Filed 2-4-20; 4:15 pm]

BILLING CODE 6690-01-P